NATIONAL SCIENCE FOUNDATION

Proposal Review Panel for Materials Research Notice of Meeting

In accordance with the Federal Advisory Committee Act (Pub. L. 92-463 as amended), the National Science Foundation announces the following meeting:

Name: Site visit review of the Materials Research Science and Engineering Center (MRSEC) at Brandeis University by NSF Division of Materials Research (DMR) #1203.

Date and Time: Thursday, April 29, 2010; 8:30 a.m.-5 p.m.

Place: Brandeis University, Waltham, MA.

Type of Meeting: Part-open.

Contact Person: Thomas Rieker, Program Director, Materials Research Science and Engineering Centers Program, Division of Materials Research, Room 1065, National Science Foundation, 4201 Wilson Boulevard, Arlington, VA 22230, Telephone (703) 292-4914.

Purpose of Meeting: To provide advice and recommendations concerning progress of the MRSEC at Brandeis University.

Agenda: Thursday April 29, 2010:

8:30 a.m.-9:30 a.m. Closed—Executive Session

9:30 a.m.- 3:30 p.m. Open—Review of Brandeis Univ MRSEC

3:30 p.m.-5:00 p.m. Closed—Executive Session

Reason For Closing: The work being reviewed may include information of a proprietary or confidential nature, including technical information; financial data, such as salaries and personal information concerning individuals associated with the proposals. These matters are exempt under 5 U.S.C. 552b(c), (4) and (6) of the Government in the Sunshine Act.

Dated: April 6, 2010.
Susanne Bolton,
Committee Management Officer.

[FR Doc. 2010-8098 Filed 4-8-10; 8:45 am]

BILLING CODE 7555-01-P